DEPARTMENT OF ENERGY

Federal Energy Regulatory Commission

[Docket Nos. CP08-420-000; CP08-420-001]

Algonquin Gas Transmission, LLC; Hubline/East to West Project

September 25, 2009.

The staff of the Federal Energy Regulatory Commission (Commission or FERC) has prepared the final Environmental Impact Statement (EIS) to address Algonquin Gas Transmission, LLC's (Algonquin) proposed expansion of its natural gas pipeline system in the above-referenced dockets. The HubLine/East to West Project (E2W Project or Project) would involve replacement of existing pipeline facilities in New London County, Connecticut and modifications to an existing compressor station in Morris County, New Jersey.

The final EIS was prepared to satisfy the requirements of the National Environmental Policy Act (NEPA). The FERC is the lead agency for the preparation of the EIS. The U.S. Army Corps of Engineers (COE) and the U.S. Environmental Protection Agency (EPA) are cooperating agencies. A cooperating agency has jurisdiction by law or special expertise with respect to environmental impacts involved with the proposal and is involved in the NEPA analysis.

Based on the analysis in the EIS, the FERC staff concludes that construction and operation of the Project would result in some adverse environmental impacts. However, if the Project is constructed and operated in accordance with applicable laws and regulations, Algonquin's proposed mitigation, and the additional mitigation measures recommended by staff in the EIS, all impacts would be reduced to a less-than-significant level.

The E2W Project would provide 281,500 dekatherms per day of east to west natural gas transportation service for delivery to high growth markets in the Northeast. The Project would increase the diversity of supply by accessing natural gas from liquefied natural gas projects offshore of Massachusetts, increase Algonquin's system flexibility, and strengthen Algonquin's ability to mitigate capacity restrictions on the eastern end of the system.

The final EIS addresses the potential environmental effects of the construction and operation of the following facilities proposed by Algonquin:

• Installation of 2.56 miles of 12-inch-diameter pipeline (E-3 System Replacement) that would replace a segment of an existing 6-inch-diameter pipeline in New London County, Connecticut;

• Installation of minor aboveground facilities including one mainline valve and remote blow-off valve, one mainline remote control valve; one pig ¹ launcher; and one pig receiver in New London County, Connecticut; and

¹ A pig is an internal tool that can be used to clean and dry a pipeline and/or to inspect it for damage or corrosion.

• Piping modifications to the existing Hanover Compressor Station in Morris County, New Jersey to accommodate reverse flow and backhaul capability along Algonquin's system.

The final EIS has been placed in the public files of the FERC and is available for distribution and public inspection at: Federal Energy Regulatory Commission, Public Reference Room, 888 First St. NE., Room 2A, Washington, DC 20426, (202) 502-8371.

A limited number of copies are available from the FERC's Public Reference Room identified above. These copies may be requested in hard copy or as .pdf files on a CD that can be read by a computer with a CD-ROM drive. The final EIS is also available for viewing on the FERC Internet Web site at www.ferc.gov. In addition, copies of the document have been mailed to federal, state, and local government agencies; elected officials; Native American tribes; local libraries and newspapers; intervenors in the FERC's proceeding; and other interested parties (i.e., affected landowners, miscellaneous individuals, and environmental groups who provided scoping comments, commented on the draft EIS, or asked to remain on the mailing list). Hard copies of the final EIS were mailed to those who specifically requested them, while all other parties on the mailing list were sent a CD of the final EIS. Hard copies of the final EIS can be viewed at the libraries in the Project area that are listed in Appendix A of the final EIS.

Additional information about the Project is available from the Commission's Office of External Affairs at 1-866-208-FERC (3372) or on the FERC Internet Web site (http://www.ferc.gov) using the eLibrary link. Click on the eLibrary link, click on “General Search,” and enter the docket number excluding the last three digits in the Docket Number field (i.e., CP08-420). Be sure you have selected an appropriate date range. For assistance, please contact FERC Online Support at FERCOnlineSupport@ferc.gov or toll free at 1-866-208-3676, or for TTY, contact (202) 502-8659. The eLibrary link on the FERC Internet website also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to the eSubscription link on the FERC Internet website.

Information concerning the involvement of the COE is available from Susan Lee at (978) 318-8494. Information concerning the involvement of the EPA is available from Timothy Timmermann at (617) 918-1025.

Kimberly D. Bose,
Secretary.

[FR Doc. E9-23862 Filed 10-2-09; 8:45 am]

BILLING CODE 6717-01-P